DEPARTMENT OF COMMERCE

International Trade Administration

(C-427-603)

Preliminary Results of Full Sunset Review: Brass Sheet and Strip from France

AGENCY: Import Administration, International Trade Administration, Department of Commerce.

SUMMARY: On April, 1, 2005, the Department of Commerce (“the Department”) initiated a sunset review of the countervailing duty (“CVD”) order on brass sheet and strip from France, pursuant to section 751(c) of the Tariff Act of 1930, as amended (“the Act”). On the basis of a notice of intent to participate and an adequate substantive response filed on behalf of the domestic interested parties and an adequate response from respondent interested parties, the Department determined to conduct a full sunset review of this CVD order pursuant to section 751(c) of the Act and 19 CFR 351.218(e)(2). As a result of our analysis, the Department preliminarily finds that revocation of the CVD order would likely to lead to continuation or recurrence of a countervailable subsidy at the level indicated in the “Preliminary Results of Review” section of this notice.

EFFECTIVE DATE: October 25, 2005.

FOR FURTHER INFORMATION CONTACT: Darla Brown or David Goldberger, AD/CVD Operations, Import Administration, International Trade Administration, U.S. Department of Commerce, 14th Street & Constitution Avenue NW, Washington, DC 20230; telephone: (202) 482-2849 or (202) 482-4136, respectively.

SUPPLEMENTARY INFORMATION:

Background

On April 1, 2005, the Department initiated a sunset review of the CVD order on brass sheet and strip from France pursuant to section 751(c) of the Act. See Notice of Initiation of Five-year (“Sunset”) Reviews, 70 FR 16800 (April 1, 2005). The Department received a notice of intent to participate from the following domestic interested parties: Heyco Metals, Inc. (“Heyco”); Olin Corporation - Brass Group (“Olin”); Outokumpu American Brass (“Outokumpu”); PMX Industries, Inc. (“PMX”); Revere Copper Products, Inc. (“Revere”); Scott Brass (“Scott”); the International Association of Machinists and Aerospace Workers; United Auto Workers (Local 2367 and Local 1024); and United Steelworkers of America (AFL/CIO-CLC) (hereinafter, collectively “domestic interested parties”), within the deadline specified in 19 CFR 351.218(d)(1)(i). The domestic interested parties claimed interested party status under sections 771(9)(C) and (D) of the Act, as domestic brass mills, rerollers, and unions engaged in the production of brass sheet and strip in the United States.

The Department received substantive responses from the domestic interested parties as well as from Gravograph Industrie International (“Gravograph”); Trefimetaux, S.A. (“TMX”); and the Government of France (“GOF”). On May 24, 2005, after analyzing the substantive and rebuttal responses of interested parties, consistent with 19 CFR 351.218(e)(1)(ii)(A) and (C), the Department determined to conduct an expedited review of this countervailing duty order on the basis that the two respondent companies, Gravograph and TMX, accounted for less than 50 percent of the exports of subject merchandise from France to the United States during the sunset review period.

Subsequently, the GOF and the European Union (“EU”) requested that the Department reconsider its adequacy determination on the basis that the customs data concerning imports (U.S. data) and exports (French data) do not reliably reflect the actual volume of imports of brass sheet and strip.¹ On June 10, 2005, domestic interested parties submitted a letter reiterating earlier comments asserting that the French respondents failed to submit all of the required information in their responses and failed to satisfy the 50-percent export threshold set forth in the regulations. Thus, according to domestic interested parties, the Department's determination to conduct an expedited review was correct and should be maintained.

¹ See letters of June 8, 2005, and June 9, 2005, respectively.

On June 14, 2005, the Department met with representatives from the EU and the GOF to discuss their request that the Department reconsider its decision to conduct an expedited review in the instant case.² On July 11, 2005, the GOF provided additional information concerning the statistics on French brass sheet and strip and again requested that the Department reconsider its adequacy determination. On July 13, 2005, the EU expressed its support for the GOF's request for a full sunset review noting that, in view of the manifest discrepancies in the various sources of data, for which the GOF has been pro-active in trying to find a solution, it would be wrong to deny all the parties a full and comprehensive investigation of the facts. Finally, on July 14, 2005, the domestic interested parties reiterated the view that the Department should conduct an expedited sunset review in this proceeding arguing that no justification exists for the Department to reverse its earlier conclusion.

² See June 16, 2005, Memorandum to the File, From Kelly Parkhill, concerning the Sunset Review of the Countervailing Duty Order on Brass Sheet and Strip from France.

The Department reconsidered its original determination, and, on August 12, 2005, determined to conduct a full review of this order, as provided for at section 751(c)(5)(A) and (C) of the Tariff Act of 1930 and at 19 CFR 351.218(e)(2).

The Department determined that the sunset review of the CVD order on brass sheet and strip from France is extraordinarily complicated. In accordance with section 751(c)(5)(C)(v) of the Act, the Department may treat a review as extraordinarily complicated if it is a review of a transition order (i.e., an order in effect on January 1, 1995). (See section 751(c)(6)(C) of the Act.) Therefore, on July 27, 2005, the Department extended the time limit for the completion of the final results of this review until not later than October 28, 2005, in accordance with section 751(c)(5)(B) of the Act. See Brass Sheet and Strip from Germany, Brazil, and France: Extension of Final Results of Expedited Sunset Review of the Antidumping and Countervailing Duty Orders, 70 FR 43395 (July 27, 2005). However, when the Department determined to conduct a full sunset review of this order, the preliminary results of the full sunset review were extended until October 18, 2005.

Scope of the Order

The merchandise subject to the CVD order is coiled, wound-on-reels (traverse wound), and cut-to-length brass sheet and strip (not leaded or tinned) from France. The subject merchandise has, regardless of width, a solid rectangular cross section over 0.0006 inches (0.15 millimeters) through 0.1888 inches (4.8 millimeters) in finished thickness or gauge. The chemical composition of the covered products is defined in the Copper Development Association (“C.D.A.”) 200 Series or the Unified Numbering System (“U.N.S.”) C2000; this order does not cover products with chemical compositions that are defined by anything other than C.D.A. or U.N.S. series. The merchandise is currently classified under Harmonized Tariff Schedule ("HTS”) item numbers 7409.21.00 and 7409.29.00. The HTS item numbers are provided for convenience and customs purposes. The written description remains dispositive.

Analysis of Comments Received

All issues raised in this review are addressed in the Issues and Decision Memorandum (“Decision Memorandum”) from Gary Taverman, Acting Deputy Assistant Secretary for Import Administration, to Joseph A. Spetrini, Acting Assistant Secretary for Import Administration, dated October 18, 2005, which is hereby adopted by this notice. Parties can find a complete discussion of all issues raised in this review and the corresponding recommendation in this public memorandum which is on file in the Central Records Unit room B-099 of the main Commerce building. In addition, a complete version of the Decision Memorandum can be accessed directly on the Web at http://ia.ita.doc.gov/frn. The paper copy and electronic version of the Decision Memorandum are identical in content.

Preliminary Results of Review

The Department preliminarily determines that revocation of the CVD order would likely lead to continuation or recurrence of a countervailable subsidy. The net countervailable subsidy likely to prevail if the order were revoked is 0.19 percent ad valorem.

Interested parties may submit case briefs no later than December 7, 2005, in accordance with 19 CFR 351.309 (c)(1)(i). Any interested party may request a hearing within 30 days of publication of this notice in accordance with 19 CFR 351.310 (c). Rebuttal briefs, which must be limited to issues raised in the case briefs, may be filed not later than December 12, 2005, in accordance with 19 CFR 351.309 (d). Any hearing, if requested, will be held on or about December 14, 2005. The Department will issue a notice of final results of this sunset review, which will include the results of its analysis of issues raised in any such comments, no later than February 25, 2006. However, February 25, 2006, falls on Saturday. It is the Department's long-standing practice to issue a determination the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the deadline for completion of these final results is February 27, 2006.

We are issuing and publishing the results and notice in accordance with sections 751(c), 752, and 777(i)(1) of the Act.

Dated: October 18, 2005.
Joseph A. Spetrini,
Acting Assistant Secretary for Import Administration.

[FR Doc. E5-5898 Filed 10-24-05; 8:45 am]

BILLING CODE 3510-DS-S